DEPARTMENT OF ENERGY

Federal Energy Regulatory Commission

[Project Nos. 2692-032, 2603-012, and 2619-012]

Duke Power North Carolina; Notice of Availability of Draft Environmental Assessment

February 9, 2006.

In accordance with the National Environmental Policy Act of 1969, as amended, and Federal Energy Regulatory Commission (Commission) regulations (18 CFR Part 380), Commission staff reviewed the applications for licenses for the Nantahala, Franklin, and Mission projects (Nantahala West Projects) and prepared a draft combined environmental assessment (EA). The projects are located on the Nantahala, Little Tennessee, and Hiwassee rivers, respectively, in Macon and Clay counties, North Carolina.

In this draft EA, Commission staff analyze the probable environmental effects of implementing the projects and conclude that approval of the projects, with appropriate staff-recommended environmental measures, would not constitute a major Federal action significantly affecting the quality of the human environment.

Copies of the draft EA are available for review in Public Reference Room 2-A of the Commission's offices at 888 First Street, NE., Washington, DC. The draft EA also may be viewed on the Commission's Internet Web site (http://www.ferc.gov) using the “eLibrary” link. Additional information about the projects is available from the Commission's Office of External Affairs at (202) 502-6088, or on the Commission's Web site using the “eLibrary” link. For assistance, contact FERCOnlineSupport@ferc.gov or call toll-free (866) 208-3676; for TTY, call (202) 502-8659.

Any comments on the draft EA should be filed within 45 days of the date of this notice and should be addressed to Magalie R. Salas, Secretary, Federal Energy Regulatory Commission, 888 First Street, NE., Washington, DC 20426. Please reference the specific project and FERC Project No. on all comments. Comments may be filed electronically via the Internet in lieu of paper. See 18 CFR 385.2001(a)(1)(iii) and the instructions on the Commission's Web site under the “e-Filing” link.

For further information, please contact Carolyn Holsopple at (202) 502-6407 or at carolyn.holsopple@ferc.gov.

Magalie R. Salas,
Secretary.

[FR Doc. E6-2242 Filed 2-15-06; 8:45 am]

BILLING CODE 6717-01-P